DEPARTMENT OF TRANSPORTATION

Federal Aviation Administration

14 CFR Part 39

[Docket No. FAA-2006-24411; Directorate Identifier 2006-NM-033-AD; Amendment 39-14642; AD 2006-12-16]

RIN 2120-AA64

Airworthiness Directives; Bombardier Model DHC-8-102, -103, -106, -201, -202, -301, -311, -314, and -315 Airplanes; Equipped With Certain Cockpit Door Installations

AGENCY: Federal Aviation Administration (FAA), Department of Transportation (DOT).

ACTION: Final rule.

SUMMARY: The FAA is adopting a new airworthiness directive (AD) for certain Bombardier Model DHC-8-102, -103, -106, -201, -202, -301, -311, -314, and -315 airplanes. This AD requires certain Bombardier Model DHC-8-102, -103, -106, -201, -202, -301, -311, -314, and -315 airplanes. This AD results from a report that, during structural testing of the cockpit door, the lower hinge block rotated and caused the mating hinge pin to disengage, and caused excessive door deflection. We are issuing this AD to prevent failure of a door attachment, which could result in uncontrolled release of the cockpit door under certain fuselage decompression conditions, and possible damage to the airplane structure.

DATES: This AD becomes effective July 18, 2006.

The Director of the Federal Register approved the incorporation by reference of certain publications listed in the AD as of July 18, 2006.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: George Duckett, Aerospace Engineer, Airframe and Propulsion Branch, ANE-171, New York Aircraft Certification Office, FAA, 1600 Stewart Avenue, suite 410, Westbury, New York 11590; telephone (516) 228-7325; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-102, -103, -106, -201, -202, -301, -311, -314, and -315 airplanes. That NPRM was published in the Federal Register on April 11, 2006 (71 FR 18244). That NPRM proposed to require modifying the hinge attachment for the cockpit door from a single-point attachment to a two-point attachment.

Comments

We provided the public the opportunity to participate in the development of this AD. We have considered the one comment received. The commenter, the Air Line Pilots Association, supports the NPRM.

Conclusion

We have carefully reviewed the available data, including the comment received, and determined that air safety and the public interest require adopting the AD as proposed.

Costs of Compliance

This AD will affect about 16 airplanes of U.S. registry. The required actions will take between 3 and 6 work hours per airplane, depending on the airplane configuration. The average labor rate is $80 per work hour. Required parts will cost about $2,000 per airplane. Based on these figures, the estimated cost of this AD for U.S. operators is between $35,840 and $39,680, or between $2,240 and $2,480 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-16 Bombardier, Inc. (Formerly de Havilland, Inc.): Amendment 39-14642. Docket No. FAA-2006-24411; Directorate Identifier 2006-NM-033-AD.

Effective Date

(a) This AD becomes effective July 18, 2006.

Affected ADs

(b) None.

Applicability

(c) This AD applies to Bombardier Model DHC-8-102, -103, -106, -201, -202, -301, -311, -314, and -315 airplanes, certificated in any category; serial numbers 003 through 557 inclusive; equipped with cockpit door installation part numbers (P/Ns) identified in Table 1 of this AD.

Table 1.—Cockpit Door Installations Affected by This AD
P/N | Dash No.(s)
82510074 | All.
82510294 | All.
82510310 | -001
8Z4597 | -001
H85250010 | All.
82510700 | All.
82510704 | All except -502 and -503.

Unsafe Condition

(d) This AD results from a report that, during structural testing of the cockpit door, the lower hinge block rotated and caused the mating hinge pin to disengage, and caused excessive door deflection. We are issuing this AD to prevent failure of a door attachment, which could result in uncontrolled release of the cockpit door under certain fuselage decompression conditions, and possible damage to the aircraft structure.

Compliance

(e) You are responsible for having the actions required by this AD performed within the compliance times specified, unless the actions have already been done.

Modification

(f) Within 24 months after the effective date of this AD, modify the cockpit door from a single-point attachment to a two-point attachment in accordance with the Accomplishment Instructions of the applicable service bulletin in Table 2 of this AD.

Table 2.—Bombardier Service Bulletins
Use this Bombardier service bulletin— | For airplane serial numbers—
8-52-54, Revision A, dated November 5, 2004 | 003 through 451 inclusive, 453 through 463 inclusive, 465 through 489 inclusive, 491 through 505 inclusive, and 507.
8-52-58, dated May 12, 2004 | 452, 464, 490, 506, and 508 through 557 inclusive.

Note 1: Bombardier Service Bulletin 8-52-54 refers to Bombardier Series 100/300 Modification Summary (Modsum) 8Q100859 as an additional source of service information for installing a hinge pin with a two-point attachment. Bombardier Service Bulletin 8-52-58 refers to Bombardier Series 100/300 Modsum 8Q900267 as an additional source of service information for reworking and installing the cockpit door, and reworking the lower hinge attachment to provide a downward-facing pin with a two-point attachment.

Prior/Concurrent Requirements

(g) Prior to or concurrently with the modification in paragraph (f) of this AD, do the applicable actions specified in Table 3 of this AD according to a method approved by either the Manager, New York Aircraft Certification (ACO), FAA; or Transport Canada Civil Aviation (TCCA) (or its delegated agent). One approved method is the applicable modification or Modsum listed in the “One approved method for doing these actions” column of Table 3 of this AD.

Table 3.—Bombardier Service Bulletins
For airplanes affected by Bombardier Service Bulletin— | That have these serial numbers— | Do these actions— | One approved method for doing these actions—
8-52-54, Revision A, dated November 5, 2004 | 003 through 407 inclusive, 409 through 412 inclusive, and 414 through 433 inclusive | Rework the cockpit door emergency release | De Havilland Aircraft of Canada, Limited, Modification 8/2337.
|  | Install a new label regarding alternate release of the door | De Havilland Aircraft of Canada, Limited, Modification 8/3339.
8-52-58, dated May 12, 2004 | 452, 464, 490, 506, and 508 through 557 inclusive | Install the cockpit door | Bombardier Series 100/300 Modsum 8Q200015.
|  | Install the cockpit door | Bombardier Series 100/300 Modsum 8Q420101.
|  | Install the cockpit door with a blow-out door panel | Bombardier Series 100/300 Modsum 8Q420143.

Actions Done In Accordance With Previous Revision of Service Bulletin

(h) Actions done before the effective date of this AD in accordance with Bombardier Service Bulletin 8-52-54, dated May 12, 2004, are acceptable for compliance with the corresponding requirements in paragraph (f) of this AD.

Alternative Methods of Compliance (AMOCs)

(i)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2005-34, dated August 29, 2005, also addresses the subject of this AD.

Material Incorporated by Reference

(k) You must use the Bombardier service information identified in Table 4 of this AD to perform the actions that are required by this AD, as applicable, unless the AD specifies otherwise. The Director of the Federal Register approved the incorporation by reference of these documents in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 4.—Material Incorporated by Reference
Bombardier Service Bulletin | Revision level | Date
8-52-54 | A | Nov. 5, 2004.
8-52-58 | Original | May 12, 2004.

Issued in Renton, Washington, on June 5, 2006.
Kalene C. Yanamura,
Acting Manager, Transport Airplane Directorate, Aircraft Certification Service.

[FR Doc. 06-5286 Filed 6-12-06; 8:45 am]

BILLING CODE 4910-13-P